DEPARTMENT OF COMMERCE

Foreign-Trade Zones Board

[S-261-2019]

Approval of Subzone Status, Packard Pipe Terminals, LLC, Belle Chasse, Louisiana

On December 19, 2019, the Executive Secretary of the Foreign-Trade Zones (FTZ) Board docketed an application submitted by the Board of Commissioners of the Port of New Orleans, grantee of FTZ 2, requesting subzone status subject to the existing activation limit of FTZ 2, on behalf of Packard Pipe Terminals, LLC, in Belle Chasse, Louisiana.

The application was processed in accordance with the FTZ Act and Regulations, including notice in the Federal Register inviting public comment (84 FR 71895, December 30, 2019). The FTZ staff examiners reviewed the application and determined that it meets the criteria for approval.

Pursuant to the authority delegated to the FTZ Board Executive Secretary (15 CFR Sec. 400.36(f)), the application to establish Subzone 2M was approved on March 6, 2020, subject to the FTZ Act and the Board's regulations, including Section 400.13, and further subject to FTZ 2's 2,000-acre activation limit.

Dated: March 6, 2020.
Andrew McGilvray,
Executive Secretary.

[FR Doc. 2020-05073 Filed 3-11-20; 8:45 am]

BILLING CODE 3510-DS-P